DEPARTMENT OF THE INTERIOR

Bureau of Reclamation

[RR83550000, 212R5065C6, RX.59389832.1009676]

Quarterly Status Report of Water Service, Repayment, and Other Water-Related Contract Actions

AGENCY: Bureau of Reclamation, Interior.

ACTION: Notice of contract actions.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section of this notice.

FOR FURTHER INFORMATION CONTACT: Michelle Kelly, Reclamation Law Administration Division, Bureau of Reclamation, P.O. Box 25007, Denver, Colorado 80225-0007; mkelly@usbr.gov; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports.

ARRA American Recovery and Reinvestment Act of 2009

BCP Boulder Canyon Project

Reclamation Bureau of Reclamation

CAP Central Arizona Project

CUP Central Utah Project

CVP Central Valley Project

CRSP Colorado River Storage Project

XM Extraordinary Maintenance

EXM Emergency Extraordinary Maintenance

FR Federal Register

IDD Irrigation and Drainage District

ID Irrigation District

M&I Municipal and Industrial

O&M Operation and Maintenance

OM&R Operation, Maintenance, and Replacement

P-SMBP Pick-Sloan Missouri Basin Program

RRA Reclamation Reform Act of 1982

SOD Safety of Dams

SRPA Small Reclamation Projects Act of 1956

USACE U.S. Army Corps of Engineers

WD Water District

MISSOURI BASIN—INTERIOR REGION 5: Bureau of Reclamation, P.O. Box 36900, Federal Building, 2021 4th Avenue North, Billings, Montana 59101, telephone 406-247-7752.

New contract actions:

44. Shoshone Municipal Pipeline, Shoshone Project, Wyoming: Consideration for renewal of water service contract No. 1-07-60-W0703.

45. Grey Reef Ranch, Kendrick Project, Wyoming: Consideration for renewal of excess capacity contract No. 14XX660043.

46. Garrison Diversion Conservancy District; Garrison Diversion Unit, P-SMBP; North Dakota: Consideration of a contract amendment to provide an additional 145 cubic-feet-per-second of water for rural and M&I purposes.

47. Glen Elder ID; Glen Elder Unit, P-SMBP; Kansas: Consideration of an amendment to change the amount of annual water supply in contract No. 199E630032.

Modified contract action:

16. Garrison Diversion Conservancy District; Garrison Diversion Unit, P-SMBP; North Dakota: Consideration of a contract amendment to provide 20 cubic-feet-per-second of water for rural and M&I purposes.

Discontinued contract actions:

24. P-SMBP; Montana, North Dakota, South Dakota, Wyoming, Nebraska, and Kansas: Renewal of contracts for the sale of Project Use Power to authorized entities.

25. Midvale ID; Riverton Unit, P-SMBP; Wyoming: Consideration of a new M&I water service contract.

Completed contract actions:

10. Lucerne Water and Sewer District, P-SMBP, Wyoming: Consideration for renewal of contract No. 1-07-60-WS091. Contract executed January 15, 2021.

16. Garrison Diversion Conservancy District; Garrison Diversion Unit, P-SMBP; North Dakota: Consideration of a contract amendment to provide 20 cubic-feet-per-second of water for rural and M&I purposes. Contract executed January 19, 2021.

22. Midvale ID; Riverton Unit, P-SMBP; Wyoming: Consideration of a request for a new contract for the District to continue the O&M of the transferred works of the Riverton Unit. Contract executed December 21, 2020.

23. Webster ID No. 4; Solomon Division, P-SMBP; Kansas: Consideration of a repayment contract for XM and replacement funded pursuant to Title IX, Subtitle G of Public Law 111-11. Contract executed January 24, 2021.

30. Griemsman L/S, LLC; Boysen Unit, P-SMBP; Wyoming: Consideration for renewal of water service contract No. 009E6A0012. Contract executed October 16, 2020.

34. Mid-Dakota Rural Water System, Inc., South Dakota: Consideration to amend agreement No. 5-07-60-W0223 to reflect the payoff of loans. Contract executed January 19, 2021.

40. Sidney Water Users ID, P-SMBP, Montana: Consideration of contract for the sale of Project Use Power authorized under Section 2 of the Act of October 30, 2020 (Pub. L. 116-191). Contract executed January 19, 2021.

41. Kinsey Irrigation Company, P-SMBP, Montana: Consideration of contract for the sale of Project Use Power authorized under Section 2 of the Act of October 30, 2020 (Pub. L. 116-191). Contract executed February 5, 2021.

UPPER COLORADO BASIN—INTERIOR REGION 7: Bureau of Reclamation, 125 South State Street, Room 8100, Salt Lake City, Utah 84138-1102, telephone 801-524-3864.

New contract action:

27. Taylor Hydro, LLC, Uncompahgre Project, Colorado: Preliminary lease and funding agreement for development of the lease of power privilege for hydropower development on the Taylor Park Dam. The purpose of this agreement is to receive funding from Taylor Hydro for Reclamation's assistance in the development of the lease of power privilege and identify timelines for the process.

Modified contract action:

4. Strawberry High Line Canal Company, Strawberry Valley Project; Utah: The Strawberry High Line Canal Company has requested to allow for the carriage of non-project water held by McMullin Orchards, dba South Shore Farms and Cherry Hill Farms in the High Line Canal.

Discontinued contract action:

24. Bostwick Park Water Conservancy District, Bostwick Park Project, Colorado: Preliminary lease and funding agreement for development of the lease of power privilege for hydropower development on the Silver Jack Dam Bypass Pipeline. The purpose of this agreement is to receive funding from the district for Reclamation's assistance in the development of the lease of power privilege and identify timelines for the process.

Completed contract action:

21. Navajo Tribal Utility Authority, Navajo-Gallup Water Supply Project, New Mexico: Reclamation is entering negotiations with the Navajo Tribal Utility Authority to provide payment for OM&R costs for use of Federal facilities pursuant to Public Law 111-11, Section 10602(g). Contract executed March 3, 2021.

LOWER COLORADO BASIN—INTERIOR REGION 8: Bureau of Reclamation, P.O. Box 61470 (Nevada Highway and Park Street), Boulder City, Nevada 89006-1470, telephone 702-293-8192.

New contract actions:

17. GSC Farm, LLC, and the Town of Queen Creek, Arizona; BCP; Arizona: Enter into a proposed assignment and transfer of Arizona fourth-priority Colorado River water in the amount of 2,033.01 acre-feet per year from GSC to Queen Creek, amend GSC's Colorado River water delivery contract No. 13-XX-30-W0571 to decrease their Colorado River water entitlement from 2,913.3 to 69.93 acre-feet per year, enter into Colorado River water delivery contract No. 20-XX-30-W0689 with Queen Creek for 2,033.01 acre-feet per year of Arizona fourth-priority Colorado River water entitlement, and enter into a wheeling agreement between the United States and Queen Creek for the wheeling of non-project water to be transported through the CAP for the use or benefit of the Queen Creek.

2. Mohave Water Conservation District and the City of Bullhead City, Arizona; BCP; Arizona: Enter into a proposed contract No. 9-07-30-W0012, assignment of Arizona fourth-priority Colorado River water entitlement in the amount of 1,800 acre-feet per year from the District to Bullhead City and amend Bullhead City's Colorado River water delivery contract No. 2-07-30-W0273 to increase their Colorado River water entitlement from 15,210 to 17,010 acre-feet per year and increase the Bullhead City contract service area to include the District's land that previously received Colorado River water pursuant to contract No. 9-07-30-W0012.

COLUMBIA-PACIFIC NORTHWEST—INTERIOR REGION 9: Bureau of Reclamation, 1150 North Curtis Road, Suite 100, Boise, Idaho 83706-1234, telephone 208-378-5344.

New contract actions:

18. Irrigation water districts; Idaho, Washington, Oregon, Montana; and Wyoming: Temporary Warren Act contracts for terms of up to 5 years providing for use of excess capacity in Reclamation facilities for annual quantities exceeding 10,000 acre-feet.

19. Idaho, Washington, Oregon, Montana, and Wyoming: Aquifer Recharge Flexibility Act (Pub. L. 116-260) contracts that allow the use of excess capacity in Reclamation facilities for aquifer recharge of non-Reclamation project water.

CALIFORNIA-GREAT BASIN—INTERIOR REGION 10: Bureau of Reclamation, 2800 Cottage Way, Sacramento, California 95825-1898, telephone 916-978-5250.

The California-Great Basin—Interior Region 10 has no updates to report for this quarter.

Christopher Beardsley,
Director, Policy and Programs.

[FR Doc. 2021-10549 Filed 5-18-21; 8:45 am]

BILLING CODE 4332-90-P